SMALL BUSINESS ADMINISTRATION

Data Collection Available for Public Comments

AGENCY: U.S. Small Business Administration.

ACTION: 60-Day notice and request for comments.

SUMMARY: The U.S. Small Business Administration (SBA) intends to request approval from the Office of Management and Budget (OMB) for a new collection of information described below. The Paperwork Reduction Act (PRA) requires federal agencies to publish a notice in the Federal Register concerning each proposed collection of information before submission to OMB and to allow 60 days for public comment in response to the notice. This notice complies with that requirement.

DATES: Submit comments on or before November 11, 2025.

ADDRESSES: Send all comments to Paul Van Eyl, Director of Financial Policy, Office of Investment and Innovation, U.S. Small Business Administration at oii.policy@sba.gov or 409 3rd Street SW, Washington, DC 20416.

FOR FURTHER INFORMATION CONTACT: Paul Van Eyl, Director of Financial Policy, Office of Investment and Innovation, U.S. Small Business Administration, oii.policy@sba.gov, 202-257-5955, or Shauniece Carter, Interim Agency Clearance Officer, U.S. Small Business Administration, shauniece.carter@sba.gov, 202-205-6536.

SUPPLEMENTARY INFORMATION: SBA is considering a new information collection to set forth certain information applicable for the application of a participant in a program under which SBA, through its Office of Investment and Innovation, and supporting offices, provides technical assistance and support to a federal loan or guarantee program authorized by statutes and designed to provide investment capital assistance to eligible businesses (Capital Assistance Program). Under this information collection, SBA would collect the information necessary to make informed and proper decisions regarding the approval or denial of an applicant under a Capital Assistance Program.

Consistent with statutory policy and in alignment with federal risk management standards, SBA has successfully maximized the participation of private financing sources in the Small Business Investment Company (SBIC) program by licensing privately managed investment funds that raise capital from private investors and leverage those resources with capital obtained through the SBICs' issuance of debentures that are guaranteed by SBA with the full faith and credit of the United States. Through this unique public-private partnership, applicants apply to be licensed as an SBIC through the collection of information submitted from SBA Form 2181.

Building on SBA's deep expertise and experience executing the established and highly successful SBIC program, SBA would use a collection similar to Form 2181 to request qualitative and quantitative information on a proposed management team, the proposed strategy for the CAP Entity, and the principals' investment track record. Like the SBIC program, SBA would also consider certain factors in its evaluation of a CAP Entity, including adequate capital; diversification of ownership and whether management is qualified and has the knowledge, experience and capability necessary for successful operations. SBA analyzes the information provided to determine whether the potential applicant is qualified to participate in a Capital Assistance Program.

Solicitation of Public Comments

SBA invites the public to submit comments, including specific and detailed suggestions on ways to improve the collection and reduce the burden on respondents. Commenters should also address (i) whether the information collection is necessary for the proper performance of SBA's functions, including whether it has any practical utility; (ii) the accuracy of the estimated burdens; (iii) ways to enhance the quality, utility, and clarity of the information to be collected; and (iv) the use of automated collection techniques or other forms of information technology to minimize the information collection burden on those who are required to respond.

OMB Control Number: To be assigned by OMB.

Title: Capital Assistance Program Management Assessment Questionnaire and License Application.

Description of Respondents: Capital Assistance Program and CAP Entities.

Form Number: To be assigned.

Estimated Annual Respondents: 100.

Estimated Annual Responses: 100.

Estimated Annual Hour Burden: 80.

Shauniece Carter,
Interim Agency Clearance Officer.

[FR Doc. 2025-17542 Filed 9-10-25; 8:45 am]

BILLING CODE 8026-09-P